DEPARTMENT OF COMMERCE

International Trade Administration

[C-560-824]

Notice of Rescission of Countervailing Duty Administrative Review: Certain Coated Paper Suitable for High-Quality Print Graphics Using Sheet-Fed Presses From Indonesia

AGENCY: Enforcement and Compliance, International Trade Administration, Department of Commerce.

SUMMARY: The Department of Commerce (the Department) is rescinding the administrative review of the countervailing duty (CVD) order on certain coated paper suitable for high-quality print graphics using sheet-fed presses (certain coated paper) from Indonesia for January 1, 2012, through December 31, 2012 period of review (POR).

DATES: Effective Date: August 4, 2014.

FOR FURTHER INFORMATION CONTACT: Milton Koch, AD/CVD Operations, Office VII, Enforcement and Compliance, International Trade Administration, U.S. Department of Commerce, 14th Street and Constitution Avenue NW., Washington, DC 20230; telephone: (202) 482-2584.

SUPPLEMENTARY INFORMATION:

Background

On November 17, 2010, the Department of Commerce (the Department) published the CVD order on certain coated paper from Indonesia.¹ On November 1, 2013, the Department published in the Federal Register a notice of opportunity to request an administrative review of the CVD order on certain coated paper from Indonesia for the 2012 POR.² On December 2, 2013, Appleton Coated LLC, NewPage Corporation, S.D. Warren, United Steel, Paper and Forestry, Rubber, Manufacturing, Energy, Allied Industrial and Service Workers International Union, (collectively “Petitioners”) timely requested that the Department conduct an administrative review of PT. Pabrik Kertas Tjiwi Kimia, Tbk, PT. Pindo Deli Pulp and Paper Mills, and PT. Indah Kiat Pulp and Paper, Tbk for the 2012 POR. Petitioners were the only party to request this administrative review. On December 30, 2013, the Department published a notice of initiation of the CVD administrative review of certain coated paper from Indonesia for the 2012 POR.³ On March 28, 2014, Petitioners timely withdrew their request for the administrative review.

¹ See Certain Coated Paper Suitable for High-Quality Print Graphics Using Sheet-Fed Presses From Indonesia: Countervailing Duty Order, 75 FR 70206 (November 17, 2010).

² See Antidumping or Countervailing Duty Order, Finding, or Suspended Investigation; Opportunity to Request Administrative Review, 78 FR 65612 (November 1, 2013).

³ See Initiation of Antidumping and Countervailing Duty Administrative Reviews and Requests for Revocation in Part, 78 FR 79392 (December 30, 2013).

Rescission of Administrative Review

Pursuant to 19 CFR 351.213(d)(1), the Secretary will rescind an administrative review, in whole or in part, if the parties that requested a review withdraw the request within 90 days of the date of publication of the notice of initiation of the requested review. Petitioners timely withdrew their request before the 90-day deadline, and no other party requested an administrative review of the CVD order on certain coated paper from Indonesia for the 2012 POR. Therefore, we are rescinding the administrative review of the CVD order on certain coated paper from Indonesia covering the 2012 POR.

Assessment

The Department will instruct U.S. Customs and Border Protection (CBP) to assess CVDs on all appropriate entries. For the companies for which this review is rescinded, the CVDs shall be assessed at rates equal to the cash deposit of estimated CVDs required at the time of entry, or withdrawal from warehouse, for consumption, in accordance with 19 CFR 351.212(c)(1)(i).

Notification to Importers

This notice serves as a reminder to importers of their responsibility under 19 CFR 351.402(f)(2) to file a certificate regarding the reimbursement of CVDs prior to liquidation of the relevant entries during this POR. Failure to comply with this requirement could result in the Secretary's presumption that reimbursement of CVDs occurred and the subsequent assessment of double CVDs.

Return or Destruction of Proprietary Information

This notice serves as a reminder to parties subject to the administrative protective order (APO) of their responsibility concerning the disposition of proprietary information disclosed under the APO in accordance with 19 CFR 351.305(a)(3). We request timely written notification of return or destruction of APO materials, or conversion to judicial protective order. Failure to comply with the regulations and the terms of an APO is a sanctionable violation.

The Department issues and publishes this notice in accordance with sections 751(a)(1) and 777(i) of the Act, and 19 CFR 351.213.

Dated: July 29, 2014.
Christian Marsh,
Deputy Assistant Secretary for Antidumping and Countervailing Duty Operations.

[FR Doc. 2014-18340 Filed 8-1-14; 8:45 am]

BILLING CODE 3510-DS-P